DEPARTMENT OF COMMERCE

National Oceanic and Atmospheric Administration

Final Management Plan for the Delaware National Estuarine Research Reserve

AGENCY: Office for Coastal Management, National Ocean Service, National Oceanic and Atmospheric Administration, U.S. Department of Commerce.

ACTION: Notice of approval for the revised management plan for the Delaware National Estuarine Research Reserve.

SUMMARY: Notice is hereby given that the Office for Coastal Management, National Ocean Service, National Oceanic and Atmospheric Administration, U.S. Department of Commerce approves the revised management plan for the Delaware National Estuarine Research Reserve. In accordance with applicable Federal regulations, the Delaware Department of Natural Resources and Environmental Control revised the reserve's management plan, which replaces the plan previously approved in 2013.

ADDRESSES: The approved management plan can be downloaded or viewed at https://documents.dnrec.delaware.gov/coastal/DNERR/2022-DNERR-Management-Plan.pdf. The document is also available by sending a written request to the point of contact identified below (see FOR FURTHER INFORMATION CONTACT).

FOR FURTHER INFORMATION CONTACT: Jean R. Brodeur, jean.brodeur@noaa.gov, 854-900-2575.

SUPPLEMENTARY INFORMATION: Pursuant to 15 CFR 921.33(c), a state must revise the management plan for its research reserve at least every five years. Changes to a reserve's management plan may be made only after receiving written approval from the National Oceanic and Atmospheric Administration (NOAA). NOAA approves changes to management plans via notice in the Federal Register. On December 16, 2021, NOAA issued a notice in the Federal Register announcing a thirty-day public comment period for the proposed revision of the Delaware National Estuarine Research Reserve management plan (86 FR 71421). No comments were received.

The management plan outlines the reserve's strategic goals and objectives; administrative structure; programs for conducting research and monitoring, education, and training; resource protection, restoration, and manipulation plans; public access and visitor use plans; consideration for future land acquisition; and facility development to support reserve operations. Since 2013, this research reserve has had an important impact on the local area and its communities. The reserve's training program held 53 trainings, workshops or conferences with 27,851 contact hours with local constituents. The education program had 32,466 contact hours with 11,722 K-12 students and 23,599 public participants. Reserve volunteers donated 20,739 hours of time producing the full-time employee equivalent of 10.5 years of work. Some of those volunteer hours were spent recording 1,784,923 spawning horseshoe crabs on the three beaches that the reserve monitors. Research and monitoring efforts produced 15 peer-reviewed publications that used this reserve's infrastructure and data. The mini-grant opportunity, available through their research and monitoring program, distributed $183,766 of funding to local, Delaware-based researchers, many of which were early career faculty. Seventy-six acres of land within this reserve's boundary have been enhanced through reforestation and other restoration efforts.

With the approval of this revised management plan, the boundary will be amended to incorporate an additional six parcels—all found within the priority acquisition area identified in the 2013 revision of the plan—increasing the total acreage to 6,364 acres. These parcels include lands that enhance and contribute to the ecological protection within the Blackbird Creek watershed. The “McKinley” property at 531 Union Church Road is 67.4 acres in size and includes a mix of native hardwoods and coastal plain ponds (Delmarva Bays). At 0 Taylors Bridge Road, the 32-acre “Unruh” property includes a wooded tributary buffer and agricultural lands. Three parcels known as the “Norris” property, totaling 42.6 acres at Union Church Road, were acquired to improve wildlife corridor habitat and include forest and agriculture lands. Additionally, an inholding property known as “Manwaring” at 789 Blackbird Landing Road, 16.3 acres in size, was acquired. More details on these parcels and the boundary change may be found in the revised management plan.

In addition to continuing the tradition of robust local community education, training and research and stewardship programs, the Delaware National Estuarine Research Reserve intends, in this next management planning period, to focus on creating demonstration areas that can be used to model best management practices for local landowners; fostering the next generation of coastal professionals and conservation stewards; engaging land managers in conversations based on watershed scale conservation; and connecting with the Delaware community in a meaningful and inclusive manner to identify their needs as the stakeholders of this research reserve. The revised management plan will serve as the guiding document for this 6,364-acre research reserve for the next five years.

NOAA reviewed the environmental impacts of the revised management plan and determined that this action is categorically-excluded from further analysis under the National Environmental Policy Act, consistent with NOAA Administrative Order216-6.

Authority: 16 U.S.C. 1451 et seq.; 15 CFR 921.33.

Keelin S. Kuipers,
Deputy Director, Office for Coastal Management, National Ocean Service, National Oceanic and Atmospheric Administration.

[FR Doc. 2022-08590 Filed 4-21-22; 8:45 am]

BILLING CODE 3510-NK-P